DEPARTMENT OF COMMERCE

National Oceanic and Atmospheric Administration

RIN 0648-XF352

Marine Mammals; File No. 21199

AGENCY: National Marine Fisheries Service (NMFS), National Oceanic and Atmospheric Administration (NOAA), Commerce.

ACTION: Notice; receipt of application.

SUMMARY: Notice is hereby given that Vanessa Coates, British Broadcasting Corporation (BBC) Natural History Unit, BBC Bristol, Whiteladies Road, United Kingdom BS8 2LR, has applied in due form for a permit to conduct commercial photography on killer whales (Orcinus orca), Dall's porpoise (Phocoenoides dalli), and Pacific white-sided dolphins (Lagenorhynchus obliquidens).

DATES: Written, telefaxed, or email comments must be received on or before May 22, 2017.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376.

Those individuals requesting a public hearing should submit a written request to the Chief, Permits and Conservation Division at the address listed above. The request should set forth the specific reasons why a hearing on this application would be appropriate.

FOR FURTHER INFORMATION CONTACT: Sara Young or Carrie Hubard; (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film killer whales at various locations outside of Seward, Alaska, over six days in May, and in Juneau, AK over six days at the end of July. In Seward, a maximum of 300 killer whales will be intentionally filmed while 100 Dall's porpoise, and 400 Pacific white-sided dolphins may be incidentally harassed and approached for filming. In Juneau, a maximum of 100 killer whales would be intentionally filmed. Filming would occur from cameras on board a vessel or by helicopter. Hydrophones would be used to record vocalizations. Footage would be used for an Alaska Live television series to showcase the gathering of wildlife in Alaska that occurs around the salmon runs. The permit would be valid through August 31, 2017.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 17, 2017.
Julia Harrison,
Chief, Permits and Conservation Division, Office of Protected Resources, National Marine Fisheries Service.

[FR Doc. 2017-08031 Filed 4-20-17; 8:45 am]

BILLING CODE 3510-22-P